DEPARTMENT OF DEFENSE

Department of the Army

Army Science Board; Notice of Open Meeting

In accordance with Section 10(a)(2) of the Federal Advisory Committee Act (Pub. L. 92-463), announcement is made of the following Committee Meeting:

Name of Committee: Army Science Board (ASB).

Date(s) of Meeting: 16 & 17 May 2002.

Time(s) of Meeting: 0900-1700, 16 May 2002, 0900-1700, 17 May 2002.

Place: Lockheed Martin.

1. The Infrastructure Panel, Army Science Board FY02 Summer Study on “Ensuring the Financial Viability of the Objective Force” is holding a meeting on 16-17 May 2002. The meeting will be held at Lockheed Martin, 1725 Jefferson Davis Highway, Suite 900, Arlington, VA. The meeting will begin at 0900 hrs on the 16th and will end at approximately 1700 hrs on the 17th. For further information, please contact William Hansen—703-266-3970 or e-mail: william.hansen@lmco.com.

Wayne Joyner,
Program Support Specialist, Army Science Board.

[FR Doc. 02-11813 Filed 5-10-02; 8:45 am]

BILLING CODE 3710-08-M